DEPARTMENT OF ENERGY

Federal Energy Regulatory Commission

[Docket Nos. EL10-29-002, EL10-36-002]

Notice of Filing

November 18, 2010.

Terra-Gen Dixie Valley, LLC | EL10-29-002
TGP Dixie Development Company, LLC
New York Canyon, LLC
Green Borders Geothermal, LLC v. Terra-Gen Dixie Valley, LLC | EL10-36-002

November 18, 2010.

Take notice that, on November 15, 2010, Terra-Gen Dixie, LLC (Dixie Valley) filed its proposed open access transmission tariff to govern the terms of new interconnection and transmission service on Dixie Valley's existing 212-mile, 230 kV radial generator tie line, in compliance with the Federal Energy Regulatory Commission's (Commission) September 16, 2010 “Order Granting in Part and Denying in Part Petition for Declaratory Order and Complaint, 132 FERC ¶ 61,215, (September 16 Order). Dixie Valley is also submitting evidence of its specific pre-existing generation development plans to support priority rights for itself and its affiliates to the existing and planned capacity of the Dixie Valley Line, in compliance with the Commission's October 8, 2010, Notice of Extension of Time, Docket Nos. EL10-29-000 and EL10-36-000 (Oct 8, 2010).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on December 6, 2010.

Kimberly D. Bose,
Secretary.

[FR Doc. 2010-29847 Filed 11-26-10; 8:45 am]

BILLING CODE 6717-01-P